DEPARTMENT OF TRANSPORTATION

Surface Transportation Board

[STB Finance Docket No. 35028]

Washington & Idaho Railway, Inc.—Lease and Operation Exemption—Washington State Department of Transportation

Washington & Idaho Railway, Inc. (WIR), a noncarrier, has filed a verified notice of exemption under 49 CFR 1150.31 to acquire by lease and to operate approximately 86.9 miles of railroad that are in the process of being acquired by the Washington State Department of Transportation (WSDOT) from Palouse River and Coulee City Railroad, Inc. (PCC).¹ The lines, known as the P&L Branch, to be leased and operated by WIR are as follows: (1) The WIM line between milepost 0.0 at Palouse, and milepost 3.85 at the Washington-Idaho State line, and (2) the P&L line between milepost 1.0 at Marshall, and milepost 75.9 at Pullman and continuing to milepost 84.05 at the Washington-Idaho State line,² located in Whitman and Spokane Counties, WA.³ WIR certifies that its projected revenues as a result of this transaction will not exceed those that would qualify it as a Class III rail carrier and will not exceed $5 million.

¹ A related notice of exemption was filed on May 21, 2007 in STB Finance Docket No. 35024, Washington State Department of Transportation—Acquisition Exemption—Palouse River and Coulee City Railroad, Inc., wherein WSDOT seeks to acquire the lines involved in this proceeding and other lines from PCC.

² The segment between mileposts 75.9 and 84.05 is described in the notice in STB Finance Docket No. 35024 as part of another PCC branch. The authority to be granted here is only permissive in nature, however, and it is up to the parties to resolve this inconsistency.

³ WIR states that it currently operates over these lines as a contract carrier for PCC.

The earliest this transaction may be consummated is June 10, 2007, the effective date of the exemption (30 days after the exemption was filed).⁴

⁴ On May 21, 2007, WSDOT filed a petition requesting that the Board partially revoke the class exemption as necessary to allow the exemption in this proceeding to become effective on June 1, 2007, rather than on June 10. That request will be addressed in a separate Board decision.

If the verified notice contains false or misleading information, the exemption is void ab initio. Petitions to revoke the exemption under 49 U.S.C. 10502(d) may be filed at any time. The filing of a petition to revoke will not automatically stay the transaction. Petitions for stay must be filed no later than June 4, 2007, unless the Board grants WSDOT's petition to make the exemption effective sooner, in which case the due date for stays will be established in the Board's decision acting on WSDOT's petition.

An original and 10 copies of all pleadings, referring to STB Finance Docket No. 35028, must be filed with the Surface Transportation Board, 395 E Street, SW., Washington, DC 20423-0001. In addition, a copy of each pleading must be served on Charles H. Montange, 426 NW., 162nd Street, Seattle, WA 98177.

Board decisions and notices are available on our Web site at http://www.stb.dot.gov.

Decided: May 24, 2007.
By the Board, David M. Konschnik, Director, Office of Proceedings.
Vernon A. Williams,
Secretary.

[FR Doc. E7-10601 Filed 5-31-07; 8:45 am]

BILLING CODE 4915-01-P